DEPARTMENT OF EDUCATION

Office of Special Education and Rehabilitative Services; Overview Information; Personnel Preparation to Improve Services and Results for Children With Disabilities—Center on High Quality Personnel in Inclusive Preschool Settings; Notice Inviting Applications for New Awards for Fiscal Year (FY) 2006

Catalog of Federal Domestic Assistance (CFDA) Number: 84.325S.

Dates: Applications Available: December 13, 2005.

Deadline for Transmittal of Applications: January 30, 2006.

Deadline for Intergovernmental Review: March 31, 2006.

Eligible Applicants: Institutions of higher education (IHEs).

Estimated Available Funds: The Administration has requested $90,626,000 for the Personnel Preparation to Improve Services and Results for Children with Disabilities program for FY 2006, of which we intend to use an estimated $500,000 for the Center on High Quality Personnel in Inclusive Preschool Settings competition. The actual level of funding, if any, depends on final congressional action. However, we are inviting applications to allow enough time to complete the grant process if Congress appropriates funds for this program.

Maximum Award: We will reject any application that proposes a budget exceeding $500,000 for a single budget period of 12 months. The Assistant Secretary for Special Education and Rehabilitative Services may change the maximum amount through a notice published in the Federal Register.

Number of Awards: 1.

Note: The Department is not bound by any estimates in this notice.

Project Period: Up to 60 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priority: In accordance with 34 CFR 75.105(b)(2)(v), this priority is from allowable activities specified in the statute (see sections 662(d) and 681(d) of the Individuals with Disabilities Education Act (IDEA)).

Absolute Priority: For FY 2006 this priority is an absolute priority. Under 34 CFR 75.105(c)(3), we consider only applications that meet this priority.

This priority is:

Center on High Quality Personnel in Inclusive Preschool Settings

Background

Research has demonstrated that preschoolers with and without disabilities can make positive developmental and school readiness gains by participating in high quality inclusive preschool programs (Odom et al., 2003). However, simply placing a child with disabilities in an inclusive setting does not guarantee these benefits. Adequate support is necessary to make inclusive preschool settings successful learning environments for all children.

Research consistently shows that teacher quality is strongly related to outcomes for students at all educational levels. Because the preschool years are so critical in fostering the development of skills needed for later school success, it is extremely important that programs serving preschoolers are staffed by personnel who are trained to implement evidence-based inclusion models and practices. To this end, support for such programs should include professional development and training activities that focus on implementing evidence-based preschool inclusion models and practices. The activities supported through this priority have the potential to improve the quality and accessibility of professional development and training activities available to prepare personnel to work in inclusive preschool settings.

Priority

The purpose of this priority is to support a Center that will increase the number of high quality early childhood personnel who serve preschoolers with disabilities in inclusive settings. The Center will accomplish this goal, in part, by developing State networks that are designed to improve the quality and accessibility of rigorous, on-going professional development and training opportunities that will prepare personnel to work in inclusive preschool settings. Specifically, the Center will: (1) Develop State networks that include, at a minimum, State and local early childhood program administrators (including part B section 619 coordinators, child care administrators, and Head Start State Collaboration Offices), local early care and education providers, early childhood teacher trainers (IHEs and community colleges) and technical assistance providers; (2) assist each network in developing a plan for the ongoing provision of rigorous, research-based training and professional development activities in inclusive preschool settings within a specific, ambitious timeframe; and (3) coordinate the provision of research-based professional development and training opportunities for early childhood special educators, related services personnel, pre-Kindergarten teachers, Head Start teachers, and child care providers.

To meet the requirements of this priority, at a minimum, the Center must:

(a) Assist at least ten States in establishing State personnel preparation networks that focus primarily on enhancing the quality of inclusive preschool settings by ensuring increased availability of, and access to, rigorous professional development and other training opportunities for staff who work in inclusive preschool settings. Training and professional development should focus on ensuring that personnel who will work in inclusive preschool programs are trained to implement evidence-based preschool inclusion models and practices. The Center must prioritize work with States most in need;

(b) Describe in its application the process and criteria for choosing States. This process should involve consultation with the Office of Special Education Programs (OSEP), the HHS Child Care Bureau, Head Start Bureau, and other federal programs serving young children. States that are selected to work with the Center should demonstrate a commitment to developing State personnel preparation networks and plans for improving inclusive preschool training and professional development opportunities;

(c) Develop a State preschool inclusion needs assessment plan that focuses on the area(s) of training and professional development that will guide the State preschool inclusion networks;

(d) Describe in its application a proposed model for the State preschool inclusion networks. States may choose to coordinate with other early childhood networks that exist in that State;

(e) Establish a cadre of national training consultants and a system for communication and interaction among the States developing preschool inclusion networks;

(f) Describe in its application the research-based professional development and other training activities that will be promoted through the Center;

(g) Describe in its application the research-based preschool inclusion models and practices that will be promoted through the Center;

(h) Prepare and disseminate reports, documents, and training and professional development materials on “best practices” in preschool inclusion and related topics for specific audiences, such as early childhood special educators, related services personnel, pre-Kindergarten teachers, Head Start teachers, child care personnel, early childhood program administrators, trainers of early care and education personnel, and technical assistance providers. This content would also be made available for use by the Information and Technical Assistance Providers funded by the Head Start and HHS Child Care Bureaus, as well as Child Care Resource and Referral Agencies. This effort must include the development and dissemination of materials to assist local communities in increasing the number of high quality early childhood personnel who serve young children with disabilities in inclusive settings. These materials must also assist early childhood technical assistance providers in developing training materials;

(i) Maintain communication and collaboration with early childhood technical assistance providers (including those funded by OSEP, Head Start, and the HHS Child Care Bureau) and organizations (including the Council for Exceptional Children's Division of Early Childhood, the National Association for the Education of Young Children, and others);

(j) Establish, maintain, and meet at least annually in Washington DC with an advisory committee. The advisory committee should consist of representatives from State and local agencies and programs serving preschool-age children, trainers of early care and education personnel (including representatives from IHEs and community colleges), early childhood technical assistance providers, parents of young children with disabilities, early care and education providers, professional organizations, advocacy groups, researchers, and other appropriate stakeholders;

(k) Conduct an evaluation of the State preschool inclusion networks to: (1) Identify and document the most effective ways to improve the quality of training and professional development for staff in inclusive preschool settings; and (2) identify, examine, and document the most promising strategies for increasing the number of high quality early childhood personnel who serve preschoolers with disabilities in inclusive settings;

(l) Prior to developing any new product, paper or electronic, submit a proposal to OSEP for approval describing the content and purpose of the product to a designated OSEP Project Officer and to the document review board at OSEP's Dissemination Center;

(m) Budget for a three-day Project Directors' meeting in Washington, DC during each year of the project; and

(n) Maintain a Web site that includes relevant information and documents in a format that meets government or industry-recognized standards for accessibility.

Statutory Requirements: To be considered for an award, an applicant must also satisfy the following requirements contained in section 662(e) through (f) of the IDEA:

(a) Demonstrate that the activities described in the application will address needs identified by the State or States the applicant proposes to serve and that the State or States intend to accept successful completion of the proposed personnel preparation program as meeting State personnel standards or other requirements in State law or regulation for serving children with disabilities or serving infants and toddlers with disabilities (see sections 662(e)(2)(A) and 662(f)(2) of the IDEA). Letters from the State or States that the project proposes to serve could be one method for addressing this requirement; and

(b) Demonstrate that the applicant and one or more State educational agencies—or, if appropriate, State appointed lead agencies responsible for providing early intervention services—or local educational agencies will cooperate in carrying out and monitoring the proposed project (see section 662(e)(2)(B) of IDEA).

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1462 and 1481(d).

Applicable Regulations: (a) The Education Department General Administrative Regulations (EDGAR) in 34 CFR parts 74, 75, 77, 79, 80, 81, 82, 84, 85, 86, 97, 98, and 99.

(b) The regulations for this program in 34 CFR part 304.

II. Award Information

Type of Award: Cooperative agreement.

Estimated Available Funds: The Administration has requested $90,626,000 for the Personnel Preparation to Improve Services and Results for Children with Disabilities program for FY 2006, of which we intend to use an estimated $500,000 for the Center on High Quality Personnel in Inclusive Preschool Settings competition. The actual level of funding, if any, depends on final congressional action. However, we are inviting applications to allow enough time to complete the grant process if Congress appropriates funds for this program.

Maximum Award: We will reject any application that proposes a budget exceeding $500,000 for a single budget period of 12 months. The Assistant Secretary for the Office of Special Education and Rehabilitative Services may change the maximum amount through a notice published in the Federal Register.

Number of Awards: 1.

Note: The Department is not bound by any estimates in this notice.

Project Period: Up to 60 months.

III. Eligibility Information

1. Eligible Applicants: IHEs.

2. Cost Sharing or Matching: This competition does not involve cost sharing or matching.

3. Other: General Requirements—(a) The project funded under this competition must make positive efforts to employ and advance in employment qualified individuals with disabilities (see section 606 of IDEA).

(b) Applicants and grant recipients funded under this notice must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.325S.

Individuals with disabilities may obtain a copy of the application package in an alternative format (e.g., Braille, large print, audiotape, or computer diskette) by contacting the program contact person listed under FOR FURTHER INFORMATION CONTACT in section VII of this notice.

2. Content and Form of Application Submission: Requirements concerning the content of an application, together with the forms you must submit, are in the application package for this competition.

Page Limit: The application narrative (part III of the application) is where you, the applicant, address the selection criteria that reviewers use to evaluate your application. You must limit part III to the equivalent of no more than 70 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to part I, the cover sheet; part II, the budget section, including the narrative budget justification; part IV, the assurances and certifications; the one-page abstract, the resumes, the bibliography, the references, or the letters of support. However, you must include all of the application narrative in part III.

We will reject your application if:

• You apply these standards and exceed the page limit; or

• You apply other standards and exceed the equivalent of the page limit.

3. Submission Dates and Times:

Applications Available: December 13, 2005.

Deadline for Transmittal of Applications: January 30, 2006.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: March 31, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. We have been accepting applications electronically through the Department's e-Application system since FY 2000. In order to expand on those efforts and comply with the President's Management Agenda, we are continuing to participate as a partner in the new government wide Grants.gov Apply site in FY 2006. The Center on High Quality Personnel in Inclusive Preschool Settings-CFDA Number 84.325S is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for The Center on High Quality Personnel in Inclusive Preschool Settings at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text) or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability. If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.325S), 400 Maryland Avenue, SW., Washington, DC 20202-4260;

or

By mail through a commercial carrier: U.S. Department of Education, Application Control Center—Stop 4260, Attention: (CFDA Number 84.325S), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.325S), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The Department intends to document the effectiveness of the activities supported under the priority established in this notice in a variety of ways. If funded, in addition to conducting the required evaluation(s), applicants will be required to collect and report data on grant-supported activities annually. These data will include: (1) The number of States that have established State personnel preparation networks that meet all of the requirements established in this priority; (2) the number(s) of individuals who participate in, and complete, research-based training and professional development in each State as a result of the State's network activities; and (3) the extent to which the curricula of training programs funded under this competition reflect the current knowledge base of effective practices.

We will notify grantees of any additional data collection and reporting requirements once they are developed.

VII. Agency Contact

FOR FURTHER INFORMATION CONTACT: Beth Caron, U.S. Department of Education, 400 Maryland Avenue, SW., room 4052, Potomac Center Plaza, Washington, DC 20202-2550. Telephone: (202) 245-7293.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: December 7, 2005.
John H. Hager,
Assistant Secretary for Special Education and Rehabilitative Services.

[FR Doc. E5-7238 Filed 12-9-05; 8:45 am]

BILLING CODE 4000-01-P